FEDERAL COMMUNICATIONS COMMISSION

47 CFR Part 53

WC Docket No. 03-228; DA 03-3742]

Section 272(b)(1)'s “Operate Independently” Requirement for Section 272 Affiliates

AGENCY: Federal Communications Commission.

ACTION: Proposed rule; extension of comment period.

SUMMARY: This document extends the deadline for filing comments and reply comments in an ongoing Commission rulemaking proceeding seeking comment on whether the Commission should modify the rules adopted to implement section 272(b)(1)'s “operate independently” requirement for section 272 affiliates.

DATES: Comments are due December 10, 2003, and reply comments are due December 22, 2003.

FOR FURTHER INFORMATION CONTACT: Christi Shewman, Attorney-Advisor, Competition Policy Division, Wireline Competition Bureau, (202) 418-1686.

SUPPLEMENTARY INFORMATION: On November 21, 2003, the Commission released a public notice issuing an extension of time for parties to file comments and reply comments in response to a November 4, 2003, Notice of Proposed Rulemaking (NPRM) seeking comment on whether the Commission should modify the rules adopted to implement section 272(b)(1)'s “operate independently” requirement. A summary of the Commission's NPRM was published in the Federal Register on November 21, 2003, triggering the cycle for comments and reply comments on the NPRM, 68 FR 65665, November 21, 2003. Due to the intervening Thanksgiving holiday during the comment cycle, the Commission grants, on its own motion, a limited extension of the deadline for filing comments and reply comments in this proceeding.

Federal Communications Commission.
Marlene H. Dortch,
Secretary.

[FR Doc. 03-30441 Filed 12-8-03; 8:45 am]

BILLING CODE 6712-01-P